DEPARTMENT OF ENERGY

Orders Granting Authority To Import And Export Natural Gas, To Import and Export Liquefied Natural Gas and To Vacate Prior Authorization During December 2014

AGENCY: Office of Fossil Energy, Department of Energy.

ACTION: Notice of orders.

| FE DOCKET NOS.
SEAONE PASCAGOULA, LLC | 14-83-CGL
BP ENERGY COMPANY | 14-160-NG
VITOL INC | 14-166-NG
DIRECT ENERGY BUSINESS MARKETING, INC | 14-170-NG
ALASKA PIPELINE COMPANY | 14-182-NG
ARIZONA PUBLIC SERVICE COMPANY | 14-184-NG
STAND ENERGY CORPORATION | 14-185-NG
H.Q. ENERGY SERVICES (U.S.) INC | 13-20-NG
SPRAGUE OPERATING RESOURCES LLC | 14-168-NG
MPOWER ENERGY LLC | 14-175-NG
COMISION FEDERAL DE ELECTRICIDAD | 14-183-NG
INTEGRYS ENERGY SERVICES, INC | 14-187-NG
SCT&E LNG, INC | 14-89-LNG
FREEPORT LNG EXPANSION, L.P. AND FLNG LIQUEFACTION, LLC, FLNG LIQUEFACTION, LLC 2), FLNG LIQUEFACTION, LLC 3 | 11-161-LNG
CHEVRON U.S.A. INC | 14-119-LNG
UGI ENERGY SERVICES, LLC | 14-158-NG
POWEREX CORP | 14-188-NG
HUSKY MARKETING AND SUPPLY COMPANY | 14-189-NG
FERUS NATURAL GAS FUELS (CNG) LLC | 14-190-NG
DOMINION COVE POINT LNG, LP | 14-192-LNG
ROYAL BANK OF CANADA | 14-193-NG

SUMMARY: The Office of Fossil Energy (FE) of the Department of Energy gives notice that during December 2014, it issued orders granting authority to import and export natural gas (NG), to import and export liquefied natural gas (LNG) and to vacate prior authority. These orders are summarized in the attached appendix and may be found on the FE Web site at http://energy.gov/fe/downloads/listing-doefe-authorizationsorders-issued-2014.

They are also available for inspection and copying in the Office of Fossil Energy, Office of Oil and Gas Global Security and Supply, Docket Room 3E-033, Forrestal Building, 1000 Independence Avenue SW., Washington, DC 20585, (202) 586-9478. The Docket Room is open between the hours of 8:00 a.m. and 4:30 p.m., Monday through Friday, except Federal holidays.

Issued in Washington, DC, on September 28, 2015.
John A. Anderson,
Director, Office of Oil and Gas Global Security and Supply, Office of Oil and Natural Gas.

Appendix—DOE/FE Orders Granting Import/Export Authorizations
3555 | 12/02/14 | 14-83-CGL | SeaOne Pascagoula, LLC | Order granting long-term Multi-contract authority to export by vessel natural gas contained in or mixed with Compressed Gas Liquid from the proposed Pascagoula Compressed Gas Liquid Export Facility to be located at the Port of Pascagoula, Mississippi, to Free Trade Agreement Nations in the Caribbean Basin and Gulf of Mexico.
3556 | 12/04/14 | 14-160-NG | BP Energy Company | Order granting blanket authority to import/export natural gas from/to Canada/Mexico.
3557 | 12/04/14 | 14-166-NG | Vitol Inc | Order granting blanket authority to import/export natural gas from/to Canada.
3558 | 12/04/14 | 14-170-NG | Direct Energy Business Marketing, LLC | Order granting blanket authority to import/export natural gas from/to Canada.
3559 | 12/04/14 | 14-182-NG | Alaska Pipeline Company | Order granting blanket authority to import natural gas from Canada.
3560 | 12/04/14 | 14-184-NG | Arizona Public Service Company | Order granting blanket authority to import/export natural gas from/to Mexico.
3561 | 12/04/14 | 14-185-NG | Stand Energy Corporation | Order granting blanket authority to import/export natural gas from/to Canada/Mexico.
3250-A | 12/11/14 | 13-20-NG | H.Q. Energy Services (U.S.) Inc | Order vacating blanket authority to import/export natural gas from/to Canada/Mexico.
3562 | 12/11/14 | 14-168-NG | Sprague Operating Resources LLC | Order granting blanket authority to import natural gas from Canada.
3563 | 12/11/14 | 14-175-NG | MPower Energy LLC | Order granting blanket authority to import natural gas from Canada.
3564 | 12/11/14 | 14-183-NG | Comision Federal de Electricidad | Order granting blanket authority to import/export natural gas from/to Mexico and vacating prior authorization.
3565 | 12/11/14 | 14-187-NG | Integrys Energy Services, Inc | Order granting blanket authority to import/export natural gas from/to Canada.
3566 | 12/15/14 | 14-89-LNG | SCT&E LNG, LLC | Order granting long-term Multi-contract authority to export LNG by vessel from the proposed SCT&E LNG Terminal in Cameron Parish, Louisiana, to Free Trade Agreement Nations.
Unnumbered | 12/22/14 | 11-161-LNG | Freeport LNG Expansion L.P. and FLNG Liquefaction, LLC FLNG Liquefaction 2, LLC FLNG Liquefaction 3, LLC | Tolling Order granting Request for Rehearing and Motion for Leave to Answer for the Purpose of Further Consideration.
3567 | 12/22/14 | 14-119-LNG | Chevron U.S.A. Inc | Order granting blanket authority to export previously imported LNG by vessel.
3568 | 12/31/14 | 14-158-NG | UGI Energy Services, LLC | Order granting blanket authority to import natural gas from Canada, and to import LNG from Canada by truck.
3569 | 12/31/14 | 14-188-NG | Powerex Corp. | Order granting blanket authority to import/export natural gas from/to Mexico.
3570 | 12/31/14 | 14-189-NG | Husky Marketing and Supply Company | Order granting blanket authority to import/export natural gas from/to Canada.
3571 | 12/31/14 | 14-190-NG | Ferus Natural Gas Fuels (CNG) LLC | Order granting blanket authority to import/export natural gas from/to Canada.
3572 | 12/31/14 | 14-192-LNG | Dominion Cove Point LNG, LP | Order granting blanket authority to import LNG from various international sources by vessel.
3573 | 12/31/14 | 14-193-NG | Royal Bank of Canada | Order granting blanket authority to import/export natural gas from/to Canada.

[FR Doc. 2015-25226 Filed 10-2-15; 8:45 am]

BILLING CODE 6450-01-P